DEPARTMENT OF TRANSPORTATION

Federal Highway Administration

[Docket No. FHWA-2016-0015]

Emergency Route Working Group—Amended Notice of Public Meetings

AGENCY: Federal Highway Administration (FHWA); DOT.

ACTION: Notice of public meetings.

SUMMARY: This notice amends the time and date of two pending meetings of the Emergency Route Working Group (ERWG).

DATES: The pending public meetings will now be held on:

• Tuesday, August 8, 2017, from 8:30 a.m.-4:30 p.m., and Wednesday, August 9, 2017, from 8:30 a.m.-12:30 p.m.

• Wednesday, September 27, 2017, from 8:30 a.m.-4:30 p.m., and Thursday, September 28, 2017, from 8:30 a.m.-12:30 p.m.

ADDRESSES: All sessions of these public meetings will be held at U.S. Department of Transportation, 1200 New Jersey Ave., Conference Center, Washington, DC 20590.

FOR FURTHER INFORMATION CONTACT: Crystal Jones, FHWA Office of Freight Management and Operations, (202) 366-2976, or via email at Crystal.Jones@dot.gov or erwg@dot.gov. For legal questions, contact Seetha Srinivasan, FHWA Office of the Chief Counsel, (202) 366-4099 or via email at Seetha.Srinivasan@dot.gov. Office hours for FHWA are from 8:00 a.m. to 4:30 p.m., e.t., Monday through Friday, except Federal holidays.

SUPPLEMENTARY INFORMATION:

Electronic Access

An electronic copy of this notice may be downloaded from the Federal Register's home page at: http://www.archives.gov; the Government Publishing Office's database at: https://www.gpo.gov/fdsys/; or the specific docket page at: www.regulations.gov.

Background

Amended date and location for two pending ERWG meetings: Pursuant to the Federal Advisory Committee Act, FHWA's Office of Freight Management and Operations issued a notice for three meetings in the Federal Register at 82 FR 27544. The FHWA held the first of these announced public meetings. The latter two meetings were originally scheduled for July 12-13, 2017, and August 9-10, 2017. These meetings have been rescheduled for:

• Meeting 2: Tuesday, August 8, 2017, from 8:30 a.m.-4:30 p.m., and Wednesday, August 9, 2017, from 8:30 a.m.-12:30 p.m.

• Meeting 3: Wednesday, September 27, 2017, from 8:30 a.m.-4:30 p.m., and Thursday, September 28, 2017, from 8:30 a.m.-12:30 p.m.

All sessions of these pending meetings will be held at the U.S. Department of Transportation Headquarters.

Minutes and Public Participation: All ERWG meetings are open to the public. Procedure for public comment is available in the original meeting notice at 82 FR 27544. An electronic copy of the minutes from all ERWG meetings will be available for download within 60 days of each meeting at: http://ops.fhwa.dot.gov/fastact/erwg/index.htm.

Authority: Section 5502 of Pub. L. 114-94; 5 U.S.C. Appendix 2; 41 CFR 102-3.65; 49 CFR 1.85.

Issued on: July 10, 2017.
Walter C. Waidelich, Jr.,
Acting Deputy Administrator, Federal Highway Administration.

[FR Doc. 2017-14925 Filed 7-14-17; 8:45 am]

BILLING CODE 4910-22-P